DEPARTMENT OF HEALTH AND HUMAN SERVICES

National Institutes of Health

National Institute of Nursing Research; Amended Notice of Meeting

Notice is hereby given of a change in the meeting of the National Institute of Nursing Research Special Emphasis Panel, June 19, 2002, 1 p.m. to June 19, 2002, 3 p.m., Holiday Inn—Bethesda, 8120 Wisconsin Avenue, Bethesda, MD, 20814 which was published in the Federal Register on June 18, 2002, FR 67: 41435.

The date of this meeting has been rescheduled to August 9, 2002 at 10 a.m. and will be held as a telephone conference meeting at 1 Democracy Building Boulevard, Bethesda, Maryland. The meeting is closed to the public.

Dated: July 31, 2002.
LaVerne Y. Stringfield,
Director, Office of Federal Advisory Committee Policy.

[FR Doc. 02-20012 Filed 8-7-02; 8:45 am]

BILLING CODE 4140-01-M